DEPARTMENT OF LABOR

Employment and Training Administration

[TA-W-39,711]

L and N Metallurgical Products Company, Ellwood City, Pennsylvania; Dismissal of Application for Reconsideration

Pursuant to 29 CFR 90.18(C) an application for administrative reconsideration was filed with the Director of the Division of Trade Adjustment Assistance for workers at L and N Metallurgical Products Company, Ellwood City, Pennsylvania. The application contained no new substantial information which would bear importantly on the Department's determination. Therefore, dismissal of the application was issued.

TA-W-39,711; L and N Metallurgical Products Company, Ellwood City, Pennsylvania (February 28, 2002)

Signed at Washington, DC this 11th day of April, 2002.
Edward A. Tomchick,
Director, Division of Trade Adjustment Assistance.

[FR Doc. 02-9763 Filed 4-19-02; 8:45 am]

BILLING CODE 4510-30-M